FEDERAL COMMUNICATIONS COMMISSION

Deletion of Items From Sunshine Act Meeting

October 27, 2016.

The following consent agenda has been deleted from the list of items scheduled for consideration at the Thursday, October 27, 2016, Open Meeting and previously listed in the Commission's Notice of October 20, 2016. The Consent Agenda has been adopted by the Commission.

* * * * *

Consent Agenda

The Commission will consider the following subjects listed below as a consent agenda and these items will not be presented individually:

1 | MEDIA | TITLE: Communtiy Radio of Decorah, Postville and Northeast Iowa for a Construction Permit for New Low Power FM Broadcast Station KCOD-LP, Decorah, Iowa.
|  | SUMMARY: The Commission will consider a Memorandum Opinion and Order concerning an Application for Review filed by Wennes Communications Stations, Inc., and Decorah Broadcasting, Inc. regarding the grant of a construction permit for low-power FM station KCOD-LP.
2 | MEDIA | TITLE: Open Arms Community of El Paso, Application to Construct a New Noncommercial Educational FM Station at Horizon City, Texas; Christian Ministries of El Paso, Inc., Application to Construct a New Noncommercial Educational FM Station at Horizon City, Texas, NCE October 2007 Window, MX Group 431.
|  | SUMMARY: The Commission will consider a Memorandum Opinion and Order concerning a Petition for Reconsideration and Petition for Reinstatement Nunc Pro Tunc and Application for Review regarding applications for new NCE construction permits in NCE MX Group 431.
3 | GENERAL COUNSEL | TITLE: In the Matter of John Anderson on Request for Inspection of Records (FOIA Control No. 2014-295).
|  | SUMMARY: The Commission will consider a Memorandum Opinion and Order concerning an Application for Review filed by Warren Havens, which appealed two decisions by the Enforcement Bureau denying four Freedom of Information Act requests. The Commission will consider a Memorandum Opinion and Order concerning an Application for Review filed by John Anderson, which appealed a decision by the Enforcement Bureau addressing his Freedom of Information Act request.

Federal Communications Commission.
Marlene H. Dortch,
Secretary.

[FR Doc. 2016-26640 Filed 10-31-16; 4:15 pm]

BILLING CODE 6712-01-P